SMALL BUSINESS ADMINISTRATION

[Disaster Declaration #11449 and #11450]

Indiana Disaster Number IN-00026

AGENCY: U.S. Small Business Administration.

ACTION: Amendment 4.

SUMMARY: This is an amendment of the Presidential declaration of a major disaster for the State of Indiana (FEMA—1795—DR), dated 09/23/2008.

Incident: Severe Storms and Flooding.

Incident Period: 09/12/2008 through 10/06/2008.

Effective Date: 10/16/2008.

Physical Loan Application Deadline Date: 11/24/2008.

EIDL Loan Application Deadline Date: 06/23/2009.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of Indiana, dated 09/23/2008 is hereby amended to include the following areas as adversely affected by the disaster:

Primary Counties: (Physical Damage and Economic Injury Loans): Floyd, Perry, Scott, Washington.

Contiguous Counties: (Economic Injury Loans Only):

Kentucky: Breckinridge.

All other information in the original declaration remains unchanged.

(Catalog of Federal Domestic Assistance Numbers 59002 and 59008)

Herbert L. Mitchell,
Associate Administrator for Disaster Assistance.

[FR Doc. E8-25481 Filed 10-24-08; 8:45 am]

BILLING CODE 8025-01-P